DEPARTMENT OF TRANSPORTATION

Federal Aviation Administration

Notice of Passenger Facility Charge (PFC) Approvals and Disapprovals

AGENCY: Federal Aviation Administration (FAA), DOT.

ACTION: Monthly Notice of PFC Approvals and Disapprovals. In February 2008, there were four applications approved. This notice also includes information on three applications, one approved in December 2006, one approved in November 2007, and the remaining approved in January 2008, inadvertently left off the December 2006, November 2007, and January 2008 notices, respectively. Additionally, six approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: County of Broome, Binghamton, New York.

Application Number: 06-09-C-00-BGM.

Application Type: Impose and use a PFC.

PFC Level: $4.50.

Total PFC Revenue Approved in This Decision: $106,875.

Earliest Charge Effective Date: September 1, 2008.

Estimated Charge Expiration Date: January 1, 2009.

Class of Air Carriers Not Required To Collect PFC's:

Nonscheduled/on-demand air carriers filing FAA Form 1800-31.

Determination: Approved. Based on information contained in the public agency's application, the FAA has determined that the approved class accounts for less than 1 percent of the total annual enplanements at Greater Binghamton Airport.

Brief Description of Projects Approved for Collection and Use: Obstruction removal.

Snow removal equipment purchase.

Brief Description of Project Approved for Use: Runway 10/28 safety area.

Decision Date: December 18, 2006.

FOR FURTHER INFORMATION CONTACT: Robert Levine, New York Airports District Office, (516) 227-3807.

Public Agency: County of Broome, Binghamton, New York.

Application Number: 08-10-C-00-BGM.

Application Type: Impose and use a PFC.

PFC Level: $4.50.

Total PFC Revenue Approved in this Decision: $1,047,455.

Earliest Charge Effective Date: March 1, 2009.

Estimated Charge Expiration Date: April 1, 2011.

Class of Air Carriers Not Required to Collect PFC'S:

Nonscheduled/on-demand air carriers filing FAA Form 1800-31.

Determination: Approved. Based on information contained in the public agency's application, the FAA has determined that the approved class accounts for less than 1 percent of the total annual enplanements at Greater Binghamton Airport.

Brief Description of Project Approved for Collection and Use:Terminal security improvements.

Brief Description of Projects Approved for Collection:

North/west aprons rehabilitation, phase I—design.

North/west aprons rehabilitation, phase II—construction.

Main ramp rehabilitation, phase I—design.

Main ramp rehabilitation, phase II—construction.

Decision Date: November 6, 2007.

FOR FURTHER INFORMATION CONTACT: Robert Levine, New York Airports District Office, (516) 227-3807.

Public Agency: City and Borough of Juneau, Juneau, Alaska.

Application Number: 08-08-C-00-JNU.

Application Type: Impose and use a PFC.

PFC Level: $4.50.

Total PFC Revenue Approved in This Decision: $8,142,712.

Earliest Charge Effective Date: September 1, 2008.

Estimated Charge Expiration Date: March 1, 2016.

Class of Air Carriers Not Required To Collect PFC's:None.

Brief Description of Projects Approved for Collection and Use:

Runway safety area (design and construction).

Sand/chemical storage building (design and construction).

Apron development (northeast quadrant); design and construction.

Apron development (northwest quadrant); design and construction.

Security fencing construction (gate).

Terminal expansion (design and construction).

Acquire snow removal equipment.

Decision Date: January 22, 2008.

FOR FURTHER INFORMATION CONTACT: Pat Oien, Alaska Region Airports Division, (907) 271-5445.

Public Agency: Monterey Peninsula Airports District, Monterey, California.

Application Number: 08-13-C-00-MRY.

Application Type: Impose and use a PFC.

PFC Level: $4.50.

Total PFC Revenue Approved in this Decision: $856,394.

Earliest Charge Effective Date: August 1, 2008.

Estimated Charge Expiration Date: August 1, 2009.

Class of Air Carriers Not Required To Collect PFC's:Nonscheduled/on-demand air carriers filing FAA Form 1800-31.

Determination: Approved. Based on information contained in the public agency's application, the FAA has determined that the approved class accounts for less than 1 percent of the total annual enplanements at Monterey Peninsula Airport.

Brief Description of Projects Approved for Collection and Use:

Residential soundproofing, phases XI and XII.

Acquire aircraft rescue and firefighting vehicle.

Airfield pavement improvements.

Airfield lighting and signage rehabilitation.

Noise exposure map update.

Runway safety area study.

Decision Date: February 7, 2008.

FOR FURTHER INFORMATION CONTACT: Ron Biaoco, San Francisco Airports District Office, (650) 876-2778, extension 626.

Public Agency: City of Rochester, Minnesota.

Application Number: 08-04-C-00-RST.

Application Type: Impose and use a PFC.

PFC Level: $4.50.

Total PFC Revenue Approved in this Decision: $1,555,114.

Earliest Charge Effective Date: August 1, 2008.

Estimated Charge Expiration Date: January 1, 2011.

Class of Air Carriers Not Required To Collect PFC's:Non-scheduled Part 135 commuters and air taxis.

Determination: Approved. Based on information contained in the public agency's application, the FAA has determined that the approved class accounts for less than 1 percent of the total annual enplanements at Rochester International Airport.

Brief Description of Projects Approved for Collection and Use:

Land acquisition, 37 acres.

Aircraft rescue and firefighting vehicle.

Pavement between air carrier and cargo ramps.

Rehabilitate runway 2/20.

Runway 13/31 extension—phase I engineering and planning.

Runway 13/31 extension—grading.

Runway 13/31 extension—phase Il engineering.

Runway 13/31 extension—electrical equipment.

Runway 13/31 extension—navigational aid relocation.

Runway 13/31 extension—construction phase.

Runway 13/31 extension—electrical (in pavement).

Runway 13/31 extension—engineering for navigational aid relocation.

Navigational aid equipment and installation.

Electrical vault for airside power equipment.

Runway 13/31 extension—highway relocation.

PFC administration fees.

Environmental assessment for runway 13/31 extension.

Decision Date: February 20, 2008.

FOR FURTHER INFORMATION CONTACT: Nancy Nistler, Minneapolis Airports District Office, (612) 713-4353.

Public Agency: County and City of Yakima, Yakima, Washington.

Application Number: 08-1 1-C-00-YKM.

Application Type: Impose and use a PFC.

PFC Level: $4.50.

Total PFC Revenue Approved in This Decision: $783,961.

Earliest Charge Effective Date: June 1,2008.

Estimated Charge Expiration Date: November 1, 2011.

Class of Air Carriers Not Required To Collect PFC'S:Air taxi/commercial operator—nonscheduled/on-demand air carriers filing FAA Form 1800-31.

Determination: Approved. Based on information contained in the public agency's application, the FAA has determined that the approved class accounts for less than 1 percent of the total annual enplanements at Yakima Air Terminal/McAllister Field.

Brief Description of Projects Approved for Collection and Use:

Environmental and pie-design of south 16th Avenue relocation.

Master plan update—runway length.

Pavement maintenance—crack seal.

Security enhancements.

Upgrade taxiway guidance sign system.

Runway 22 traverse way (service road).

Construct “C” stub taxiway.

Aviation demand forecast.

Brief Description of Project Approved for Collection:Relocate south 16th Avenue/safety area/service road.

Decision Date: February 21, 2008.

FOR FURTHER INFORMATION CONTACT: Trang Tran, Seattle Airports District Office, (425) 227-1662.

Public Agency: City of Brownsville, Texas.

Application Number: 08-04-C-00-BRO.

Application Type: Impose and use a PFC.

PFC Level: $4.50.

Total PFC Revenue Approved in This Decision: $234,956.

Earliest Charge Effective Date: October 1, 2009.

Estimated Charge Expiration Date: June 1, 2010.

Class of Air Carriers Not Required To Collect PFC's:None.

Brief Description of Projects Approved for Collection and Use:

Pavement management plan.

Taxiway G reconstruction, phase I.

Displace runway 17/35 threshold.

PFC application and administration fees.

Decision Date: February 25, 2008.

FOR FURTHER INFORMATION CONTACT: Mike Nicely, Texas Airports Development Office, (817) 222-5606.

Amendments to PFC Approvals
Amendment No., city, state | Amendment approved date | Original approved net PFC revenue | Amended approved net PFC revenue | Original estimated charge exp. date | Amended estimated charge exp. date
04-06-C-01-BTM, Butte, MT | 2/07/08 | $189,711 | $184,956 | 02/01/07 | 06/01/06
98-03-C-04-TLH, Tallahassee, FL | 2/12/08 | 3,770,045 | 3,753,489 | 10/01/02 | 10/01/02
03-04-C-01-LET, Lafayette, LA | 2/20/08 | 1,967,250 | 2,351,898 | 04/01/08 | 04/01/08
96-02-C-01-SAV, Savannah, GA | 2/22/08 | 1,439,445 | 977,956 | 06/01/10 | 05/01/10
02-05-C-01-SAV, Savannah, GA | 2/22/08 | 3,015,790 | 2,633,876 | 05/01/12 | 03/01/12
06-06-C-01-SAV, Savannah, GA | 2/22/08 | 3,231,473 | 4,480,700 | 11/01/12 | 03/01/13

Issued in Washington, DC on April 4, 2008.
Myrna Rivera
Acting Manager, Financial Analysis and Passenger Facility Charge Branch.

[FR Doc. E8-8080 Filed 4-15-08; 8:45 am]

BILLING CODE 4910-13-M